DEPARTMENT OF TRANSPORTATION

Maritime Administration

[Docket No. MARAD-2002-13840]

Information Collection Available for Public Comments and Recommendations

ACTION: Notice and request for comments.

SUMMARY: In accordance with the Paperwork Reduction Act of 1995, this notice announces the Maritime Administration's (MARAD's) intentions to request extension of approval for three years of a currently approved information collection.

DATES: Comments should be submitted on or before January 21, 2003.

FOR FURTHER INFORMATION CONTACT: Lennis Fludd, Maritime Administration, 400 Seventh St., SW., Washington, DC 20590. Telephone: 202-366-2308; FAX: 202-366-9580, or E-MAIL: lennis.fludd@marad.dot.gov.

Copies of this collection can also be obtained from that office.

SUPPLEMENTARY INFORMATION: Title of Collection: Records Retention Schedule.

Type of Request: Extension of currently approved information collection.

OMB Control Number: 2133-0501.

Form Numbers: None.

Expiration Date of Approval: Three years from approval by the Office of Management and Budget.

Summary of Collection of Information. Section 801, Merchant Marine Act, 1936, as amended, requires retention of financial records pertaining to financial assistance programs for ship construction and ship operations. These records are required to be retained to permit proper audit of pertinent records at the conclusion of a contract.

Need and Use of the Information: The information will be used to audit pertinent records at the conclusion of a contract when the contractor was receiving financial assistance from the government.

Description of Respondents: U.S. shipping companies.

Annual Responses: 3.

Annual Burden: 150 hours.

Comments: Comments should refer to the docket number that appears at the top of this document. Written comments may be submitted to the Docket Clerk, U.S. DOT Dockets, Room PL-401, 400 Seventh Street, SW., Washington, DC 20590. Comments may also be submitted by electronic means via the Internet at http://dmses.dot.gov/submit. Specifically address whether this information collection is necessary for proper performance of the functions of the agency and will have practical utility, accuracy of the burden estimates, ways to minimize this burden, and ways to enhance the quality, utility, and clarity of the information to be collected. All comments received will be available for examination at the above address between 10 a.m. and 5 p.m. EDT (or EST), Monday through Friday, except Federal Holidays. An electronic version of this document is available on the World Wide Web at http://dms.dot.gov.

By Order of the Maritime Administrator.
Dated: November 14, 2002.
Joel C. Richard,
Secretary, Maritime Administration.

[FR Doc. 02-29408 Filed 11-19-02; 8:45 am]

BILLING CODE 4910-81-P